DEPARTMENT OF HEALTH AND HUMAN SERVICES

Centers for Disease Control and Prevention

[60Day-16-16AVM; Docket No. CDC-2016-0065]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice accompanies a Notice of Proposed Rulemaking and invites comment on the information collection request Airline and Vessel and Traveler Information Collection. This information collection request pertains to CDC's activities with regard to requirements at proposed § 71.4 and § 71.5 that airlines and vessels arriving to the United States from foreign countries send passenger, crew, and conveyance information (aka manifests) to CDC in the event that a communicable disease of public health concern is suspected or confirmed in a person aboard who poses a potential public health risk to other travelers and their communities after arriving in the United States. This information also pertains to current activities with regard to the collection of manifests from domestic flights within the United States, as well as the collection of traveler information using the Passenger Locator Form (PLF) on both international and domestic flights.

DATES: Written comments must be received on or before September 26, 2016.

ADDRESSES: You may submit comments, identified by Docket No. CDC-2016-0065 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Airline and Vessel and Traveler Information Collection (42 CFR part 70 and 71)—New—Division of Global Migration and Quarantine, National Center for Emerging Zoonotic and Infectious Diseases, Centers for Disease Control and Prevention (CDC).

Background and Brief Description

Under the Public Health Service Act (42 United States Code § 264) and under 42 Code of Federal Regulations (CFR) § 71.32(b) and 42 CFR 70.2, CDC can order airlines and vessels arriving from another country or traveling between states to submit a data set including airline or vessel details, and passenger and crew member information if CDC reasonably believes that a traveler exposed to or infected with a communicable disease of public health concern could have put other passengers at risk for a communicable disease. In the accompanying Notice of Proposed Rulemaking, CDC is proposing to create two specific provisions that require the submission of airline and vessels and traveler data CDC. These provisions are proposed § 71.4 Requirements relating to collection, storage, and transmission of airline passenger, crew, and flight information for public health purposes and proposed § 71.5 Requirements relating to collection, storage and transmission of ship passenger, crew and voyage information for public health purposes. CDC anticipates that, while this is not a new practice, the listing of specific variables in specific regulatory provisions, will improve the submission of more timely, accurate, and complete traveler contact information by air and maritime companies.

While not associated with this NPRM, CDC is also seeking approval for domestic airline and vessel and traveler information orders under current authorities in 42 CFR 70.2. This activity is also currently already current practice.

Additionally, CDC requests to transition the Passenger Locator Form (PLF), previously included and approved by OMB in 0920-0134 Foreign Quarantine Regulations, into this Information Collection Request. Further, CDC is requesting approval for the use of the PLF for the collection of traveler information from individuals on domestic flights. The PLF, a form developed by the International Civil Aviation Organization (ICAO) in concert with its international member states and other aviation organizations, is used when there is a confirmation or strong suspicion that an individual(s) aboard a flight is infected with or exposed to a communicable disease that is a threat to co-travelers, and CDC is made aware of the individual(s) prior to arrival in the United States. This prior awareness can provide CDC with an opportunity to collect traveler contact information directly from the traveler prior to departure from the arrival airport.

Stopping a communicable disease outbreak—whether it is naturally occurring or intentionally caused—requires the use of the most rapid and effective public health tools available. Basic public health practices, such as collaborating with airlines in the identification and notification of potentially exposed contacts, are critical tools in the fight against the introduction, transmission, and spread of communicable diseases in the United States.

The collection of timely, accurate, and complete contact information enables Quarantine Public Health Officers in CDC's Division of Global Migration and Quarantine (DGMQ) to notify state and local health departments in order for them to make contact with individuals who may have been exposed to a contagious person during travel and identify appropriate next steps.

In the event that there is a confirmed case of communicable disease of public health concern aboard an aircraft or ship, CDC collects manifest information for those passengers and crew at risk for exposure. The specific manifest of PLF information collection differs depending on the communicable disease that is confirmed during air or maritime travel. CDC uses this manifest and PLF information to coordinate with state and local health departments so they can follow-up with residents who live or are currently located in their jurisdiction. In general, state and local health departments are responsible for the contact investigations. In rare cases, CDC may use the manifest and PLF data to perform the contact investigation directly. In either case, CDC works with state and local health departments to ensure individuals are contacted and provided appropriate public health follow-up.

While the title of this information collection request includes vessels, CDC does not routinely collect vessel manifest information, and does so less than 10 times per year. Therefore, there is no vessel and maritime traveler information collection in the burden table.

Estimated Annualized Burden Hours

CDC estimates that for each set of vessel and traveler information ordered, airlines require approximately six hours to review the order, search their records, and send those records to CDC. CDC anticipates that travelers will need approximately five minutes to complete the PLF. There is no cost to respondents other than their time perform these actions. For manifest information, CDC does not have a specified format for these submissions, only that it is one acceptable to both CDC and the respondent.

Type of respondent | Form name | Number of respondents | Number of responses per respondent | Average burden per response (in hours) | Total burden (in hours)
Airline Medical Officer or Equivalent/Computer and Information Systems Manager | Domestic TB Manifest Template | 1 | 1 | 360/60 | 6
Airline Medical Officer or Equivalent/Computer and Information Systems Manager | Domestic Non-TB Manifest Template | 28 | 1 | 360/60 | 168
Airline Medical Officer or Equivalent/Computer and Information Systems Manager | International TB Manifest Template | 67 | 1 | 360/60 | 402
Airline Medical Officer or Equivalent/Computer and Information Systems Manager | International Non-TB Manifest Template. | 29 | 1 | 360/60 | 174
Traveler | Public Health Passenger Locator Form: Outbreak of public health significance (international flights) | 2,700,000 | 1 | 5/60 | 225,000
Traveler | Public Health Passenger Locator Form: Limited onboard exposure (international flights | 800 | 1 | 5/60 | 67
Traveler | Public Health Passenger Locator Form (domestic flights) | 800 | 1 | 5/60 | 67
Total |  |  |  |  | 225,884

Leroy A. Richardson,
Chief, Information Collection Review Office, Office of Scientific Integrity, Office of the Associate Director for Science, Office of the Director, Centers for Disease Control and Prevention.

[FR Doc. 2016-17601 Filed 7-25-16; 8:45 am]

BILLING CODE 4163-18-P